DEPARTMENT OF ENERGY

Federal Energy Regulatory Commission

[Docket No. RP01-482-001]

Dominion Transmission, Inc.; Notice of Compliance Filing

August 17, 2001.

Take notice that on August 14, 2001, Dominion Transmission Inc. (DTI) tendered for filing as part as of its FERC Gas Tariff, the following tariff sheets:

First Revised Volume No. 2 Effective August 15, 2001

First Original Sheet No. 4

Third Revised Volume No. 1 Effective August 8, 2001

Sub. First Revised Sheet No. 5

DTI states that the filing is being made in compliance with the Commission's Letter Order, dated August 8, 2001, in Docket No. RP01-482-000.

On July 9, 2001, DTI filed revised tariff sheets in Third Revised Volume No. 1 and a First Revised Volume No. 2, which supercedes in their entirety, the currently effective Original Volume Nos. 2 and 2A. DTI revised its currently effective tariff to reflect the change in its corporate name from CNG Transmission Corporation to Dominion. The tariff sheets were accepted for filing, effective August 8, 2001, except that First Revised Sheet No. 5 to Third Revised Volume No. 1 was rejected. The Commission required that First Revised Sheet No. 5 be replaced to eliminate the typographical error at Rate Schedule X-49 and X-50 by replacing the name of the old contract with “Notice of Cancellation”. DTI is filing a replacement page for First Revised Sheet No 5 of Third Revised Volume No. 1 along with a corresponding correction in the index of First Revised Volume No. 2, Original Sheet No. 4.

DTI states that copies of its letter of transmittal and enclosures have been served upon the parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21240 Filed 8-22-01; 8:45 am]

BILLING CODE 6717-01-P